DEPARTMENT OF TRANSPORTATION

Federal Aviation Administration

14 CFR Part 39

[Docket No. FAA-2025-0211; Project Identifier MCAI-2023-00706-R]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model AS350B2, AS350B3, and EC130B4 helicopters. This proposed AD was prompted by reports of broken cargo swing frames and the determination to change an existing repetitive inspection threshold. This proposed AD would require repetitively inspecting the cargo swing installation and frame and, depending on the results, corrective action, as specified in a European Union Aviation Safety Agency (EASA) AD, which is proposed for incorporation by reference. The FAA is proposing this AD to address the unsafe condition on these products.

DATES: The FAA must receive comments on this NPRM by April 11, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0211; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0211.

FOR FURTHER INFORMATION CONTACT: Steven Warwick, Aviation Safety Engineer, FAA, 1600 Stewart Avenue, Suite 410, Westbury, NY 11590; phone: (817) 222-5225; email: Steven.R.Warwick@faa.gov.

SUPPLEMENTARY INFORMATION:

Comments Invited

The FAA invites you to send any written relevant data, views, or arguments about this proposal. Send your comments to an address listed under the ADDRESSES section. Include “Docket No. FAA-2025-0211; Project Identifier MCAI-2023-00706-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Steven Warwick, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2023-0107, dated May 26, 2023; corrected June 2, 2023 (EASA AD 2023-0107) (also referred to as the MCAI), to correct an unsafe condition on Airbus Helicopters Model AS 350 B2, AS 350 B3, and EC 130 B4 helicopters, if equipped with cargo hook onboard part number (P/N) 704A41811035 and with a cargo swing frame (any P/N). The MCAI states there have been reports of a broken cargo swing frame during a flight transition to hover, resulting in loss of the load. Subsequent investigation determined that the interval for the repetitive inspections of the swing cargo installation, currently defined in operating hours in the applicable Aircraft Maintenance Manual (AMM), must be based on sling cycles (SC), and that certain cargo swing installations have been operated beyond the applicable repetitive inspection interval based on SC.

The FAA is proposing this AD to prevent failure of a cargo swing frame. This unsafe condition, if not addressed, could result in failure of a cargo swing frame, in-flight loss of load, and subsequent damage to and reduced control of the helicopter.

You may examine the MCAI in the AD docket at regulations.gov under Docket No. FAA-2025-0211.

Material Incorporated by Reference Under 1 CFR Part 51

EASA AD 2023-0107 requires a one-time inspection of the cargo swing installation and frame for an anomaly, which may be indicated by a crack, distortion, scratch, hammering mark, or impact mark. Depending on the results, EASA AD 2023-0107 requires contacting AH [Airbus Helicopters] for approved corrective action instructions and accomplishing those instructions accordingly. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI above. The FAA is issuing this NPRM after determining that the unsafe condition described previously is likely to exist or develop in other products of the same type design.

Proposed AD Requirements in This NPRM

This proposed AD would require accomplishing the actions specified in EASA AD 2023-0107, described previously, as incorporated by reference, except for any differences identified as exceptions in the regulatory text of this proposed AD and except as discussed under “Differences Between this NPRM and the MCAI.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0107 by reference in the FAA final rule. This proposed AD would, therefore, require compliance with EASA AD 2023-0107 in its entirety through that incorporation, except for any differences identified as exceptions in the regulatory text of this proposed AD. Using common terms that are the same as the heading of a particular section in EASA AD 2023-0107 does not mean that operators need comply only with that section. For example, where the AD requirement refers to “all required actions and compliance times,” compliance with this AD requirement is not limited to the section titled “Required Action(s) and Compliance Time(s)” in EASA AD 2023-0107. Material referenced in EASA AD 2023-0107 for compliance will be available at regulations.gov under Docket No. FAA-2025-0211 after the FAA final rule is published.

Differences Between This NPRM and the MCAI

The material referenced in EASA AD 2023-0107 specifies that certain procedures may be done by a pilot with correct training and accreditation, whereas this proposed AD would require those actions be accomplished by persons authorized under 14 CFR 43.3. EASA AD 2023-0107 defines the acronym “SC” as swing cycles, whereas this proposed AD and “the ASB” (the alert service bulletin) referenced in EASA AD 2023-0107 define SC as sling cycles. EASA AD 2023-0107 requires a one-time inspection, whereas this proposed AD would require repetitive inspections to require the updated threshold on an on-going basis. Depending on the inspection results, EASA AD 2023-0107 specifies contacting AH [Airbus Helicopters] to obtain approved corrective action instructions and accomplishing those instructions, whereas this proposed AD would require replacing the cargo swing frame.

Costs of Compliance

The FAA estimates that this AD, if adopted as proposed, would affect 1,184 helicopters of U.S. registry. Labor rates are estimated at $85 per work-hour. Based on these numbers, the FAA estimates the following costs to comply with this proposed AD.

Visually inspecting the cargo swing installation and frame would take 2 work-hours for an estimated cost of $170 per helicopter and $201,280 for the U.S. fleet. If required, dye penetrant inspecting the cargo swing installation and frame would take 6 work-hours for an estimated cost of $510 per helicopter. Replacing the cargo swing frame would take 4 work-hours and the part would cost $25,507, for an estimated cost of $25,847 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

Airbus Helicopters: Docket No. FAA-2025-0211; Project Identifier MCAI-2023-00706-R.

(a) Comments Due Date

The FAA must receive comments on this airworthiness directive (AD) by April 11, 2025.

(b) Affected ADs

None.

(c) Applicability

This AD applies to Airbus Helicopters Model AS350B2, AS350B3, and EC130B4 helicopters, certificated in any category, as identified in European Union Aviation Safety Agency AD 2023-0107, dated May 26, 2023; corrected June 2, 2023 (EASA AD 2023-0107).

(d) Subject

Joint Aircraft System Component (JASC) Code 2500, Cabin Equipment/Furnishings.

(e) Unsafe Condition

This AD was prompted by reports of broken cargo swing frames and the determination to change an existing repetitive inspection threshold. The FAA is issuing this AD to prevent failure of a cargo swing frame. The unsafe condition, if not addressed, could result in failure of a cargo swing frame, in-flight loss of load, and subsequent damage to and reduced control of the helicopter.

(f) Compliance

Comply with this AD within the compliance times specified, unless already done.

(g) Requirements

Except as specified in paragraphs (h) and (i) of this AD: Comply with all required actions and compliance times specified in, and in accordance with, EASA AD 2023-0107.

(h) Exceptions to EASA AD 2023-0107

(1) Where EASA AD 2023-0107 refers to its effective date, this AD requires using the effective date of this AD.

(2) Where EASA AD 2023-0107 defines SC as “swing cycles,” this AD requires replacing that text with “sling cycles.”

(3) Where the material referenced in EASA AD 2023-0107 specifies that certain procedures may be done by a pilot with correct training and accreditation, this AD requires that those actions be accomplished by persons authorized under 14 CFR 43.3.

(4) Where paragraph (1) of EASA AD 2023-0107 states “within the compliance time specified in Table 1 of this AD, as applicable,” this AD requires replacing that text with “within the compliance time specified in Table 1 of this AD, as applicable, and thereafter at intervals not to exceed 12 months and 36 days or 550 SC, whichever occurs first.”

(5) Where the AMM task, as defined in EASA AD 2023-0107, specifies dye penetrant inspecting the cargo swing installation and frame if in doubt if there is a crack, this AD requires dye penetrant inspecting the cargo swing installation and frame if, as a result of the visual inspection, there is a line having no visible gap or misalignment to determine if the line is a scratch or a crack.

Note 1 to paragraph (h)(5): Entering compliance into helicopter maintenance records showing that a dye penetrant inspection was performed improves the accuracy of maintenance records regarding use of dye penetrant inspection dye.

(6) Instead of complying with paragraph (2) of EASA AD 2023-0107, comply with the following, “As a result of the actions required by paragraph (1) of EASA AD 2023-0107, if there is a distortion, scratch, hammering mark, or impact mark that exceeds the allowable limit, or any crack, gap, or misalignment, before further flight, remove the cargo swing frame from service and replace it with an airworthy cargo swing frame.”

(7) This AD does not adopt the “Remarks” section of EASA AD 2023-0107.

(i) No Reporting Requirement

Although the material referenced in EASA AD 2023-0107 specifies to submit certain information to the manufacturer, this AD does not require that action.

(j) Special Flight Permit

Special flight permits may be issued in accordance with 14 CFR 21.197 and 21.199, provided no external cargo or person(s) is hoisted.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and emailed to: AMOC@faa.gov.

(2) Before using any approved AMOC, notify your appropriate principal inspector, or lacking a principal inspector, the manager of the local flight standards district office/certificate holding district office.

(l) Additional Information

For more information about this AD, contact Steven Warwick, Aviation Safety Engineer, FAA, 1600 Stewart Avenue, Suite 410, Westbury, NY 11590; phone: (817) 222-5225; email: Steven.R.Warwick@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0107, dated May 26, 2023; corrected June 2, 2023.

(ii) [Reserved]

(3) For EASA material identified in this AD, contact EASA, Konrad-Adenauer-Ufer 3, 50668 Cologne, Germany; phone: +49 221 8999 000; email: ADs@easa.europa.eu; website: easa.europa.eu. You may find this EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on February 19, 2025.
Victor Wicklund,
Deputy Director, Compliance & Airworthiness Division, Aircraft Certification Service.

[FR Doc. 2025-03012 Filed 2-24-25; 8:45 am]

BILLING CODE 4910-13-P